DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Alabama: Mobile (FEMA Docket No.: B-2445) | City of Mobile (24-04-1639P) | The Honorable William Stimpson, Mayor, City of Mobile, P.O. Box 1827, Mobile, AL 36633 | City Clerk's Office, 205 Government Street, Mobile, AL 36602 | Oct. 3, 2024 | 015007
Arkansas: Pulaski (FEMA Docket No.: B-2445) | Unincorporated areas of Pulaski County (23-06-2073P) | The Honorable Barry Hyde, Pulaski County Judge, 201 South Broadway Street, Suite 400, Little Rock, AR 72201 | Pulaski County Planning and Development Department, 3200 Brown Street, Little Rock, AR 72204 | Sep. 23, 2024 | 050179
Colorado:
Adams (FEMA Docket No.: B-2439) | City of Thornton (23-08-0553P) | The Honorable Janifer Kulmann, Mayor, City of Thornton, 9500 Civic Center Drive, Thornton, CO 80229 | City Hall, 9500 Civic Center Drive, Thornton, CO 80229 | Sep. 20, 2024 | 080125
Adams (FEMA Docket No.: B-2439) | Unincorporated areas of Adams County (23-08-0553P) | Emma Pinter, Chair, Adams County, Board of Commissioners, 4430 South Adams County Parkway, Brighton, CO 80601 | Adams County Community and Economic Development Department, 4430 South Adams County Parkway, 1st Floor, Suite W2000, Brighton, CO 80601 | Sep. 20, 2024 | 080001
Douglas (FEMA Docket No.: B-2439) | Unincorporated areas of Douglas County (23-08-0606P) | George Teal, Chair, Douglas County Board of Commissioners, 100 3rd Street, Castle Rock, CO 80104 | Department of Public Works Engineering, 100 3rd Street, Castle Rock, CO 80104 | Sep. 13, 2024 | 080049
Montrose (FEMA Docket No.: B-2439) | City of Montrose (22-08-0573P) | The Honorable J. David Reed, Mayor, City of Montrose, 400 East Main Street, Montrose, CO 81401 | City Hall, 433 South 1st Street, Montrose, CO 81401 | Sep. 12, 2024 | 080125
Montrose (FEMA Docket No.: B-2439) | Unincorporated areas of Montrose County (22-08-0573P) | Roger Rash, Chair, Montrose County Board of Commissioners, 1140 North Grand Avenue, Suite 250, Montrose, CO 81401 | Montrose County Government Center, 320 South 1st Street, Montrose, CO 81401 | Sep. 12, 2024 | 080124
Florida:
Lee (FEMA Docket No.: B-2445) | City of Bonita Springs (24-04-1255P) | The Honorable Rick Steinmeyer, Mayor, City of Bonita Springs, 9101 Bonita Beach Road, Bonita Springs, FL 34135 | Community Development Department, 9220 Bonita Beach Road, Suite 111, Bonita Springs, FL 34135 | Sep. 23, 2024 | 120680
Lee (FEMA Docket No.: B-2445) | Unincorporated areas of Lee County (24-04-1255P) | David Harner, Lee County Manager, 2115 2nd Street, Fort Myers, FL 33901 | Lee County Building Department, 1500 Monroe Street, Fort Myers, FL 33901 | Sep. 23, 2024 | 125124
Manatee (FEMA Docket No.: B-2439) | Unincorporated areas of Manatee County (23-04-6510P) | Charlie Bishop, Manatee County Administrator, 1112 Manatee Avenue West, Bradenton, FL 34205 | Manatee County Administration Building, 1112 Manatee Avenue West, Bradenton, FL 34205 | Sep. 23, 2024 | 120153
Palm Beach (FEMA Docket No.: B-2445) | Town of Loxahatchee Groves (23-04-4820P) | Francine Ramaglia, Manager, Town of Loxahatchee Groves, 155 F Road, Loxahatchee Groves, FL 33411 | Town Hall, 155 F Road, Loxahatchee Groves, FL 33411 | Sep. 12, 2024 | 120309
Palm Beach (FEMA Docket No.: B-2445) | Unincorporated areas of Palm Beach County (23-04-4820P) | Verdenia C. Baker, Palm Beach County Administrator, 301 North Olive Avenue, Suite 1101, West Palm Beach, FL 33401 | Palm Beach County Building Division, 2300 North Jog Road, Vista Center, 1st Floor, 1E-17, West Palm Beach, FL 33411 | Sep. 12, 2024 | 120192
Palm Beach (FEMA Docket No.: B-2445) | Village of Royal Palm Beach (23-04-4820P) | The Honorable Fred Pinto, Mayor, Village of Royal Palm Beach, 1050 Royal Palm Beach Boulevard, Royal Palm Beach, FL 33411 | Village Hall, 1050 Royal Palm Beach Boulevard, Royal Palm Beach, FL 33411 | Sep. 12, 2024 | 120225
Pinellas (FEMA Docket No.: B-2439) | City of Clearwater (23-04-5852P) | The Honorable Bruce Rector, Mayor, City of Clearwater, 100 South Myrtle Avenue, Clearwater, FL 33756 | City Hall, 100 South Myrtle Avenue, Clearwater, FL 33756 | Sep. 13, 2024 | 125096
Volusia (FEMA Docket No.: B-2439) | City of Daytona Beach (24-04-1863P) | The Honorable Derrick Henry, Mayor, City of Daytona Beach, 301 South Ridgewood Avenue, Daytona Beach, FL 32114 | City Hall, 301 South Ridgewood Avenue, Daytona Beach, FL 32114 | Sep. 12, 2024 | 125099
Kentucky:
Hardin (FEMA Docket No.: B-2445) | City of Elizabethtown (24-04-0372P) | The Honorable Jeff Gregory, Mayor, City of Elizabethtown, 200 West Dixie Avenue, Elizabethtown, KY 42702 | City Hall, 200 West Dixie Avenue, Elizabethtown, KY 42702 | Sep. 23, 2024 | 210095
Jefferson (FEMA Docket No.: B-2445) | Metropolitan Government of Louisville and Jefferson County (23-04-5492P) | The Honorable Craig Greenberg, Mayor, Metropolitan Government of Louisville and Jefferson County, 527 West Jefferson Street, Louisville, KY 40202 | Louisville/Jefferson County Metropolitan Sewer District, 700 West Liberty Street, Louisville, KY 40203 | Sep. 23, 2024 | 210120
Louisiana:
East Feliciana (FEMA Docket No.: B-2445) | Unincorporated areas of East Feliciana Parish County (24-06-0746P) | Louis Kent, President, East Feliciana Parish Police Jury, P.O. Box 427, Clinton, LA 70722 | East Feliciana Parish Police Jury and Assessor, 12064 Marston Street, Clinton, LA 70722 | Sep. 19, 2024 | 220364
West Feliciana (FEMA Docket No.: B-2445) | Unincorporated areas of West Feliciana Parish County (24-06-0746P) | Kenneth Havard, President, West Feliciana Parish, P.O. Box 1921, St. Francisville, LA 70775 | West Feliciana Parish Government, 5934 Commerce Street, St. Francisville, LA 70775 | Sep. 19, 2024 | 220245
North Carolina:
Cabarrus (FEMA Docket No.: B-2445) | Town of Harrisburg (22-04-2503P) | The Honorable Jennifer Teague, Mayor, Town of Harrisburg, P.O. Box 100, Harrisburg, NC 28075 | Town Hall, 4100 Main Street, Suite 101, Harrisburg, NC 28075 | Sep. 19, 2024 | 370038
Cabarrus (FEMA Docket No.: B-2445) | Unincorporated areas of Cabarrus County (22-04-2503P) | Stephen M. Morris, Chair, Cabarrus County Board of Commissioners, P.O. Box 707, Concord, NC 28026 | Cabarrus County Planning Services Department, 65 Church Street Southeast, Concord, NC 28025 | Sep. 19, 2024. | 370036
Guilford (FEMA Docket No.: B-2445) | City of Greensboro (23-04-3912P) | The Honorable Nancy Vaughan, Mayor, City of Greensboro, P.O. Box 3136, Greensboro, NC 27402 | Stormwater Planning Division, 2602 South Elm, Eugene Street, Greensboro, NC 27402 | Sep. 19, 2024 | 375351
Mecklenburg (FEMA Docket No.: B-2439) | Town of Cornelius (24-04-0324P) | The Honorable Woody Washam, Mayor, Town of Cornelius, P.O. Box 399, Cornelius, NC 28031 | Town Hall, 21445 Catawba Avenue, Cornelius, NC 28031 | Sep. 11, 2024 | 370498
North Dakota:
McKenzie (FEMA Docket No.: B-2439) | City of Alexander (23-08-0604P) | The Honorable Kenneth Willcox, Mayor, City of Alexander, P.O. Box 336, Alexander, ND 58831 | City Hall, 112 Manning Avenue, Alexander, ND 58831 | Sep. 12, 2024 | 380055
McKenzie (FEMA Docket No.: B-2439) | Unincorporated areas of McKenzie County (23-08-0604P) | Howdy Lawlar, Chair, McKenzie County Board of Commissioners, 201 5th Street Northwest, Suite 543, Watford City, ND 58854 | McKenzie County Public Works Department, 1300 12th Street Southeast, Watford City, ND 58854 | Sep. 12, 2024 | 380054
Pennsylvania:
Butler (FEMA Docket No.: B-2450) | Township of Adams (23-03-0933P) | Russell R. Ford, Chair, Township of Adams Board of Supervisors, 690 Valencia Road, Mars, PA 16046 | Township Hall, 690 Valencia Road, Mars, PA 16046 | Sep. 12, 2024 | 421415
Butler (FEMA Docket No.: B-2450) | Township of Middlesex (23-03-0933P) | Michael Spreng, Chair, Township of Middlesex Board of Supervisors, 133 Browns Hill Road, Valencia, PA 16059 | Township Hall, 133 Browns Hill Road, Valencia, PA 16059 | Sep. 12, 2024 | 421229
South Carolina: York (FEMA Docket No.: B-2439) | Unincorporated areas of York County (23-04-6209P) | David Hudspeth, York County Manager, 6 South Congress Street, York, SC 29745 | York County Planning and Development Services Department, 18 West Liberty Street, York, SC 29745 | Sep. 12, 2024 | 450193
Tennessee: Williamson (FEMA Docket No.: B-2445) | City of Spring Hill (23-04-5418P) | The Honorable Jim Hagaman, Mayor, City of Spring Hill, 199 Town Center Parkway, Spring Hill, TN 37174 | Engineering Department, 8060 Station Hill Drive, Spring Hill, TN 37174 | Sep. 13, 2024 | 470278
Texas:
Atascosa (FEMA Docket No.: B-2445) | City of Lytle (24-06-0507P) | The Honorable Ruben Gonzalez, Mayor, City of Lytle, P.O. Box 743, Lytle, TX 78052 | City Hall, 14916 Main Street, Lytle, TX 78052 | Sep. 12, 2024 | 480692
Bexar (FEMA Docket No.: B-2439) | Unincorporated areas of Bexar County (23-06-2243P) | The Honorable Peter Sakai, Bexar County Judge, 101 West Nueva Street, 10th Floor, San Antonio, TX 78205 | Bexar County Public Works Department, 1948 Probandt Street, San Antonio, TX 78214 | Sep. 16, 2024 | 480035
Collin (FEMA Docket No.: B-2439) | Unincorporated areas of Collin County (23-06-2300P) | The Honorable Chris Hill, Collin County Judge, 2300 Bloomdale Road, McKinney, TX 75071 | Juvenile Justice Alternative Education Program Building, 4690 Community Avenue, Suite 200, McKinney, TX 75071 | Sep. 16, 2024 | 480130
Denton (FEMA Docket No.: B-2439) | Unincorporated areas of Denton County (24-06-0136P) | The Honorable Andy Eads, Denton County Judge, 1 Courthouse Drive, Suite 3100, Denton, TX 76208 | Denton County Development Services Department, 3900 Morse Street, Denton, TX 76208 | Sep. 16, 2024 | 480774
Ellis (FEMA Docket No.: B-2439) | City of Venus (23-06-0989P) | The Honorable Alejandro Galaviz, Mayor, City of Venus, 700 West U.S. Highway 67, Venus, TX 76084 | Department of Public Works, 700 West U.S. Highway 67, Venus, TX 76084 | Sep. 16, 2024 | 480883
Ellis (FEMA Docket No.: B-2439) | Unincorporated areas of Ellis County (23-06-0989P) | The Honorable Todd Little, Ellis County Judge, 101 West Main Street, Waxahachie, TX 75165 | Ellis County Engineering Department, 109 South Jackson Street, Waxahachie, TX 75165 | Sep. 16, 2024 | 480798
Guadalupe (FEMA Docket No.: B-2439) | City of New Braunfels (23-06-2669P) | Robert Camareno, Manager, City of New Braunfels, 550 Landa Street, New Braunfels, TX 78130 | City Hall, 550 Landa Street, New Braunfels, TX 78130 | Sep. 12, 2024 | 485493
Guadalupe (FEMA Docket No.: B-2445) | Unincorporated areas of Guadalupe County (23-06-2723P) | The Honorable Kyle Kutscher, Guadalupe County Judge, 101 East Court Street, Seguin, TX 78155 | Guadalupe County Environmental Health Department, 310 Interstate Highway 10 West, Seguin, TX 78155 | Sep. 23, 2024 | 480266
Hays (FEMA Docket No.: B-2439) | City of Kyle (24-06-0264P) | The Honorable Travis Mitchell, Mayor, City of Kyle, 100 West Center Street, Kyle, TX 78640 | City Hall, 100 West Center Street, Kyle, TX 78640 | Sep. 12, 2024 | 481108
Kaufman (FEMA Docket No.: B-2439) | City of Forney (23-06-1347P) | The Honorable Jason Roberson, Mayor, City of Forney, P.O. Box 826, Forney, TX 75126 | City Hall, 101 East Main Street, Forney, TX 75126 | Sep. 13, 2024 | 480410
Medina (FEMA Docket No.: B-2445) | City of Castroville (23-06-2481P) | The Honorable Darrin Schroeder, Mayor, City of Castroville, 1209 Fiorella Street, Castroville, TX 78009 | Municipal Court, 1209 Fiorella Street, Castroville, TX 78009 | Sep. 20, 2024 | 480932
Medina (FEMA Docket No.: B-2445) | Unincorporated areas of Medina County (23-06-2481P) | The Honorable Keith Lutz, Medina County Judge, 1300 Avenue M, Room 250, Hondo, TX 78861 | Medina County Courthouse, 1100 16th Street, Hondo, TX 78861 | Sep. 20, 2024 | 480472
Nueces (FEMA Docket No.: B-2439) | City of Corpus Christi (23-06-1985P) | The Honorable Paulette M. Guajardo, Mayor, City of Corpus Christi, 1201 Leopard Street, Corpus Christi, TX 78401 | City Hall, 1201 Leopard Street, Corpus Christi, TX 78401 | Sep. 16, 2024 | 485464

[FR Doc. 2024-23124 Filed 10-4-24; 8:45 am]

BILLING CODE 9110-12-P